DEPARTMENT OF ENERGY

Federal Energy Regulatory Commission

[Docket No. CP02-378-002]

Cameron LNG, LLC; Notice of Intent To Prepare an Environmental Assessment for the Proposed Cameron LNG Berthing Amendment and Request for Comments on Environmental Issues

January 25, 2005.

The staff of the Federal Energy Regulatory Commission (FERC or Commission) will prepare an environmental assessment (EA) that will discuss the environmental impacts of the Cameron LNG Berthing Amendment involving construction and operation of facilities by Cameron LNG, LLC (Cameron LNG) in Cameron Parish, Louisiana.

On December 20, 2004, the Commission gave notice that Cameron LNG filed a request under section 3 of the Natural Gas Act for an amendment to its authorization for import facilities that was previously granted in Docket No. CP02-378-000. In the order issued on September 11, 2003, Cameron LNG was authorized to construct and operate facilities to import liquefied natural gas (LNG) near Hackberry, Louisiana. That notice gave a deadline of January 12, 2005, for the filing of motions to intervene, protest, and comment.

This notice announces the opening of the scoping process the Commission will use to gather input from the public and interested agencies on the project. Your input will help determine which issues need to be evaluated in the EA. Please note that the scoping period will close on February 25, 2005. Details on how to submit comments are provided in the Public Participation section of this notice.

This notice is being sent to affected landowners; Federal, state, and local government agencies; elected officials; Native American tribes; other interested parties; and local libraries and newspapers. State and local government representatives are asked to notify their constituents of this planned project and to encourage them to comment on their areas of concern.

Summary of the Proposed Project

Cameron LNG seeks amended authority to make modifications to the berthing facilities at its LNG terminal to allow a larger variety of LNG tankers to use the approved terminal. The proposed modifications will require increased dredging and the addition of soil depositional areas to accommodate increased dredge material.

The ship unloading slip, as currently approved, would be about 1,250 feet by 1,100 feet. The proposed modification would increase this to about 2,600 feet (entrance width) tapering to 750 feet at the rear bulkhead wall. Cameron LNG also proposes to add an 850-foot-radius turning basin integrated into the slip.

The general location of the berthing area site is shown in Appendix 1.¹

¹ The appendices referenced in this notice are not being printed in the Federal Register. Copies are available on the Commission's Internet Web site (http://www.ferc.gov) at the “eLibrary” link or from the Commission's Public Reference Room at (202) 502-8371. For instructions on connecting to eLibrary, refer to the end of this notice. Copies of the appendices were sent to all those receiving this notice in the mail.

Non-Jurisdictional Facilities

The modifications would require either the abandonment in place or relocation of portions of 4-inch-diameter and 6-inch-diameter pipelines owned by Hilcorp Energy Company that cross the terminal and berthing area.

Land Requirements for Construction

The proposed berthing modification would increase the area required for the LNG ship unloading facilities by 34.2 acres (of which 32.8 acres are open water). As a result of the proposed configuration, some of the land-based acreages already approved would change (i.e., the land required for the LNG storage tanks would decrease by 2 acres; the electrical and flare areas would decrease by 2.7 acres; and the land for administrative facilities would increase by 0.4 acres). As a result, the net increase in area requirements for permanent facilities under the proposed modification would be 29.9 acres. Cameron LNG would use an additional 4.6 acres for temporary construction areas.

The EA Process

We ² are preparing this EA to comply with the National Environmental Policy Act (NEPA) which requires the Commission to take into account the environmental impact that could result if it authorizes Cameron LNG's proposal. By this notice, we are also asking Federal, state, and local agencies with jurisdiction and/or special expertise with respect to environmental issues to formally cooperate with us in the preparation of the EA. Agencies that would like to request cooperating status should follow the instructions for filing comments provided below.

² “We,” “us,” and “our” refer to the environmental staff of the FERC's Office of Energy Projects.

NEPA also requires the FERC to discover and address concerns the public may have about proposals. This process is referred to as “scoping.” The main goal of the scoping process is to focus the analysis in the EA on the important environmental issues. By this Notice of Intent, we are requesting public comments on the scope of the issues to address in the EA. All comments received are considered during the preparation of the EA.

We have already identified several issues that we think deserve attention based on a preliminary review of the proposed modifications and the environmental information provided by Cameron LNG. The following preliminary list of issues may be changed based on your comments and our analysis:

• Effects of dredging and storage of 4.9 million cubic yards of sediment (which is 2.5 million cubic yards more than already approved);

• Sedimentation impacts on aquatic resources;

• Erosion and other impacts to coastal marsh;

• How the alignment of berthing ships affects other use of the channel; and

• Potential impacts from non-jurisdictional facilities, which could involve a horizontal directional drill of the Calcasieu River;

We will also evaluate possible alternatives to the proposed project or portions of the project, and make recommendations on how to lessen or avoid impacts on the various resource areas.

Previously, on October 5, 2004, the U.S. Army Corps of Engineers, along with the Louisiana Department of Environmental Quality (Office of Environmental Services) and Louisiana Department of Natural Resources (Coastal Management Division), issued a joint public notice for Cameron LNG's request for the respective agency permits that would be required for the proposed modification.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal including alternative berthing alignments, and measures to avoid or lessen environmental impact. The more specific your comments, the more useful they will be. Please carefully follow these instructions to ensure that your comments are received in time and properly recorded:

• Send an original and two copies of your letter to: Magalie R. Salas, Secretary, Federal Energy Regulatory Commission, 888 First Street, NE.; Room 1A, Washington, DC 20426.

• Label one copy of the comments for the attention of Gas Branch 1.

• Reference Docket No. CP02-378-002.

• Mail your comments so that they will be received in Washington, DC on or before February 25, 2005.

The Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

We may mail the EA for comment. If you are interested in receiving it, please return the Information Request (Appendix 3). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to rule 214 of the Commission(s Rules of Practice and Procedure (18 CFR 385.214) (see Appendix 2). ³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the “eLibrary” link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E5-394 Filed 2-1-05; 8:45 am]

BILLING CODE 6717-01-P